DEPARTMENT OF THE INTERIOR

Fish and Wildlife Service

[FWS-R4-R-2008-N0015; 40136-1265-0000-S3]

Eufaula National Wildlife Refuge, Barbour and Russell Counties, AL, and Stewart and Quitman Counties, GA

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Eufaula National Wildlife Refuge for public review and comment. In this Draft CCP/EA, we describe the alternative we propose to use to manage this refuge for the 15 years following approval of the Final CCP.

DATES: To ensure consideration, we must receive your written comments by July 21, 2008. We will hold a public meeting. We will announce the upcoming meeting in the local news media.

ADDRESSES: Requests for copies of the Draft CCP/EA should be addressed to Eufaula National Wildlife Refuge, 367 Highway 165, Eufaula, AL 36027-8187; Telephone 334/687-4065. The Draft CCP/EA may also be accessed and downloaded from the Service's Internet Web site http://southeast.fws.gov/planning. Comments on the Draft CCP/EA may be submitted to the above address or via electronic mail to mike_dawson@fws.gov.

FOR FURTHER INFORMATION CONTACT: Mike Dawson, Refuge Planner, Jackson, MS; 601/965-4903, extension 20.

SUPPLEMENTARY INFORMATION:

Introduction

With this notice, we continue the CCP process for Eufaula National Wildlife Refuge. We started the process through a notice in the Federal Register on January 26, 2006 (71 FR 4373).

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

CCP Alternatives, Including Our Proposed Alternative

We developed four alternatives for managing the refuge and chose Alternative D as the proposed alternative. Each alternative would pursue the same four broad refuge goals. These goals are: (1) Wildlife; (2) habitat; (3) public use; and (4) refuge administration.

Alternatives

A full description of each alternative is in the Draft CCP/EA. We summarize each alternative below.

Alternative A—Current Management (No Action)

In general, Alternative A would maintain current management direction, that is, the refuge's habitats and wildlife populations would continue to be managed as they have in recent years. Public use patterns would remain relatively unchanged from those that exist at present.

We would conserve, protect, and enhance native wildlife populations representative of the middle Chattahoochee River Valley, including waterfowl, other migratory birds, and threatened and endangered species.

We would provide a complex of habitats, both moist-soil and grain crops, to meet the foraging needs of 15,000 wintering ducks. This would assist the North American Waterfowl Management Plan in meeting its goals. We would also provide adequate open space (upland crop fields) for winter utilization and feeding of at least 350 geese and cranes. In addition, staff and/or volunteers would maintain 100 wood duck boxes on the refuge.

We would continue forest management at current levels and intensity. We would maintain 175 acres of grassland habitat for the benefit of grassland birds. In addition, we would use various tools to maintain tall emergent vegetation sufficient to support a population of 10 king rails and to benefit other species of marsh birds.

For the benefit of wading birds, known rookeries would be protected but there would be no active management of foraging habitat for herons and egrets. Likewise, no active management for shorebirds would take place. However, we would provide protective conservation measures for Federal or State listed species and habitats for future ecological existence.

We would employ sound scientific principles to manage healthy populations of resident wildlife species. We would control domestic, feral, or pest animals, especially feral hogs, removing an average of 65 hogs annually.

We would provide suitable habitats for native wildlife populations representative of the middle Chattahoochee River Valley, including waterfowl, other migratory birds, and threatened and endangered species.

We would utilize farming on 500 acres to provide food, cover, and sanctuary areas for wildlife and other species, as well as manage approximately 2,600 acres that are forestland to provide benefits for forest-dependent wildlife.

We would use fire as a management tool on approximately 300 acres annually in suitable habitats for species and habitat conservation. We would also continue management of moist-soil wetlands (approximately 1,175 acres), with emphasis on providing for waterfowl and other aquatic birds' foraging and life-history requirements.

We would continue to control invasive plant species at current levels of approximately 25 miles of shoreline and 750 acres annually (aquatic plants), and preventive and maintenance control of upland invasive species (500 acres annually in croplands).

We would provide the public with quality wildlife-dependent recreation and environmental education and interpretation that lead to greater understanding and enjoyment of fish, wildlife, and their habitats.

The refuge hunting program would continue to be carried out in accordance with Service policy and State and Federal laws, including seasons for deer, waterfowl, squirrels, rabbits, and mourning doves. Incidental management and enforcement of fishing regulations would occur. We would maintain existing wildlife observation facilities for visitors, including two observation platforms, the wildlife drive, and the interpretive trail. We would also continue to provide an environmental education program on- and off-refuge, without a public use specialist, and limited interpretation at the headquarters and on the interpretive trail.

We would continue to plan but would not build a visitor center. Visitor contact would take place at the new refuge office/headquarters. The refuge staff presently consists of six positions: refuge manager, assistant refuge manager, wildlife biologist, office assistant, maintenance worker, and engineering equipment operator. There would continue to be limited management of cultural resources based on known locations of identified cultural, historical, and archaeological resources. We would follow standard procedures to protect cultural resources whenever projects involving excavation were undertaken.

Alternative B—Enhanced Wildlife and Habitat Management

We would intensify and expand wildlife and habitat management on the refuge, thereby increasing benefits for wildlife species and fulfilling the refuge purposes and goals. Public use opportunities would remain approximately the same as they are now.

We would conserve, protect, and enhance native wildlife populations representative of the middle Chattahoochee River Valley, including waterfowl, other migratory birds, and threatened and endangered species.

We would provide a complex of habitats, both moist-soil and grain crops, to meet the foraging needs of 25,000 wintering ducks. This would assist the North American Waterfowl Management Plan in meeting its goals. We would also provide adequate open space (upland crop fields) for winter utilization and feeding of at least 500 geese and cranes. In addition, staff and/or volunteers would maintain 200 wood duck boxes.

We would provide forest habitat conditions conducive to supporting both priority pine and hardwood associated bird species by 2010. By 2008, we would provide high-quality grassland habitat to support grassland bird species on as many acres as possible, while achieving priority waterfowl objectives. In addition, by 2010, this alternative would promote tall emergent vegetation sufficient to support a population of 10-40 king rails and to benefit other species of marsh birds.

For the benefit of wading birds, by 2010, we would provide for both secure nesting sites and ample foraging habitat. Also by 2010, we would furnish at least two areas of up to 20 acres each for shorebirds, during both northbound and southbound movements. We would provide protective conservation measures for Federal or State listed species and habitats for future ecological existence.

We would expand our capability and effort to implement sound scientific principles to better manage healthy populations of resident wildlife species. We would control domestic, feral, or pest animals, especially feral hogs, removing an average of 100-plus hogs annually, or as needed.

We would provide suitable habitats for native wildlife populations representative of the middle Chattahoochee River Valley, including waterfowl, other migratory birds, and threatened and endangered species. We would work toward achieving several objectives to fulfill this habitat goal.

We would gradually reduce cooperative farmer cropland acreage to 300 acres (from 500 acres at present) over the 15-year life of the CCP. Additionally, we would cultivate crops on 100 acres to provide food, cover, and sanctuary areas for wildlife and other species.

We would employ silvicultural treatments to improve 2,800 acres of forestland to provide benefits to forest-dependent wildlife. We would also use fire as a management tool on approximately 800-1,000 acres annually in suitable habitats for species and habitat conservation. Management of moist-soil wetlands (approximately 1,200 acres) would be intensified, with emphasis on waterfowl and other aquatic birds' foraging and life-history requirements.

We would aggressively control aquatic invasive plant species on approximately 25 miles of shoreline, or as needed, and 1,250 acres annually. We would also conduct preventive and maintenance control of upland invasive plant species.

We would provide the public with quality wildlife-dependent recreation and environmental education and interpretation that lead to greater understanding and enjoyment of fish, wildlife, and their habitats. Because Alternative B emphasizes expanded habitat and wildlife management, as to public use matters Alternative B is very similar to Alternative A.

We would continue to carry out the hunting program in accordance with Service policy and State and Federal laws, including seasons for deer, waterfowl, squirrels, rabbits, and mourning doves. By 2010, we would document the impact of sport fishing and fishing tournaments on sensitive wildlife and habitat resources to serve as a basis for discussions with the Army Corps of Engineers and Alabama and Georgia authorities on the possibility of establishing no-wake zones in sensitive areas. We would maintain existing wildlife observation facilities for visitors, including two observation platforms, the wildlife drive, and the interpretive trail. We would also continue to provide the existing environmental education program on- and off-refuge, without a public use specialist, and limited interpretation at the headquarters and on the interpretive trail.

We would provide for sufficient staffing, facilities, and infrastructure to fulfill the refuge's purpose and the goals and objectives of the CCP. Under Alternative B, we would enlarge the current staff by adding three full-time positions: biological science technician, maintenance worker, and law enforcement officer.

Within 15 years of CCP approval, we would develop and begin to implement a cultural resources management plan. In the meantime, there would continue to be limited management of cultural resources based on known locations of identified cultural, historical, and archaeological resources. We would follow standard procedures to protect cultural resources whenever projects involving excavation were undertaken.

We would increase cooperation with the Army Corps of Engineers and the States of Alabama and Georgia on invasives' management, and with the States on overall refuge management, including restoration of longleaf pine forests. We would work to establish a Friends group (support group) by 2022.

We would continue to plan but would not build a visitor center. Visitor contact would take place at the new refuge office/headquarters.

Alternative C—Enhanced Wildlife-Dependent Public Use

Alternative C would emphasize enhanced wildlife-dependent public use on the refuge. Additional efforts and expenditures would be made to expand the public use program, visitor facilities, and the overall level of wildlife-dependent recreational opportunities available to the public. Special emphasis would be placed on promoting the six priority public uses of the Refuge System (e.g., hunting, fishing, wildlife observation, wildlife photography, and environmental education and interpretation) as identified in the National Wildlife Refuge System Improvement Act.

We would conserve, protect, and enhance native wildlife populations representative of the middle Chattahoochee River Valley, including waterfowl, other migratory birds, and threatened and endangered species.

We would provide a complex of habitats, both moist-soil and grain crops, to meet the foraging needs of 25,000 wintering ducks. This would assist the North American Waterfowl Management Plan in meeting its goal. We would also provide adequate open space (upland crop fields) for winter utilization and feeding of at least 500 geese and cranes. In addition, staff and/or volunteers would maintain 200 wood duck boxes.

By 2010, we would provide forest habitat conditions conducive to supporting both priority pine and hardwood associated bird species. By 2008, we would provide high-quality grassland habitat to support grassland bird species on as many acres as possible, while achieving priority waterfowl objectives. In addition, by 2010, we would promote tall emergent vegetation sufficient to support a population of 10-40 king rails and to benefit other species of marsh birds.

For the benefit of wading birds, by 2010, we would provide for both secure nesting sites and ample foraging habitat. Also by 2010, we would furnish at least two areas of up to 20 acres each for shorebirds, during both northbound and southbound movements. We would provide protective conservation measures for Federal or State listed species and habitats for future ecological existence.

We would expand our capability and effort to implement sound scientific principles to better manage healthy populations of resident wildlife species. Domestic, feral, or pest animals, especially feral hogs, would be controlled, removing an average of 100-plus hogs annually, or as needed, by considering implementation of a feral hog hunting season.

We would provide suitable habitats for native wildlife populations representative of the middle Chattahoochee River Valley, including waterfowl, other migratory birds, and threatened and endangered species.

We would gradually reduce cooperative farmer cropland acreage to 300 acres (from 500 acres at present) over the 15-year life of the CCP. Additionally, we would cultivate crops on 100 acres to provide food, cover, and sanctuary areas for wildlife and other species.

We would manage approximately 2,600 acres of forestland to provide benefits to forest-dependent wildlife. Fire would be used as a management tool on approximately 300 acres annually in suitable habitats for species and habitat conservation. Management of moist-soil wetlands (approximately 1,200 acres) would be intensified, with emphasis on waterfowl and other aquatic birds foraging and life-history requirements.

We would aggressively control aquatic invasive plant species on approximately 25 miles of shoreline, or as needed, and 1,250 acres annually. We would also conduct preventive and maintenance control of upland invasive plant species.

We would provide the public with quality wildlife-dependent recreation and environmental education and interpretation that lead to greater understanding and enjoyment of fish and wildlife and their habitats. We would continue to work toward expanding overall public use opportunities.

By 2012, in addition to maintaining all existing hunts and seasons, we would consider adding a youth wild turkey quota hunt and an alligator hunt on open water areas of the refuge. By 2010, boat launch facilities and bank fishing opportunities would be expanded. All existing wildlife observation and photography facilities would be maintained, and within 10 years of CCP approval, we would: (1) Designate a one-way loop in the Houston Bottoms, and add additional pull-offs to the existing wildlife drive; (2) improve existing interpretive trail and add foot trails between Lakepoint State Park and the refuge; and (3) add one photo blind in the Houston impoundment or goose pen impoundment.

We would provide for sufficient staffing, facilities, and infrastructure to fulfill the refuge's purpose and the goals and objectives of the CCP. We would enlarge the current staff by adding four full-time positions: biological science technician, maintenance worker, park ranger (non-law enforcement), and law enforcement officer.

There would continue to be limited management of cultural resources based on known locations of identified historical and archaeological resources. We would follow standard procedures to protect cultural resources whenever projects involving excavation were undertaken. We would cooperate with the Army Corps of Engineers and the States of Alabama and Georgia on management of invasive species, and with both States on overall refuge management.

By 2022, or within 15 years of CCP approval, we would construct and begin to operate a visitor center east of U.S. Highway 431, adjacent to the Kennedy Unit. This center would serve as a focal point of public use opportunities.

Alternative D—Balanced Wildlife/Habitat Management and Public Use Activities (Proposed Alternative)

The proposed action would expand both wildlife and habitat management efforts, as well as public use opportunities, in a balanced fashion.

We would conserve, protect, and enhance native wildlife populations representative of the middle Chattahoochee River Valley, including waterfowl, other migratory birds, and threatened and endangered species.

We would provide a complex of habitats, both moist-soil and grain crops, to meet the foraging needs of 25,000 wintering ducks. This would assist the North American Waterfowl Management Plan in meeting its goal. We would also provide adequate open space (upland crop fields) for winter utilization and feeding of at least 500 geese and cranes. In addition, staff and/or volunteers would maintain 200 wood duck boxes on the refuge.

By 2010, we would provide forest habitat conditions conducive to supporting both priority pine and hardwood associated bird species. By 2008, we would provide high-quality grassland habitat to support grassland bird species on 220 to 300 acres, while achieving priority waterfowl objectives. This would include planting native warm season grass species on old farm fields. In addition, by 2010, this would promote tall emergent vegetation sufficient to support a population of 10-20 king rails and to benefit other species of marsh birds.

For the benefit of wading birds, by 2010, we would provide for both secure nesting sites and ample foraging habitat. Also by 2010, we would furnish at least two areas of up to 20 acres each for shorebirds, during both northbound and southbound movements. In addition, we would provide protective conservation measures for Federal or State listed species and habitats for future ecological existence.

We would expand the capability and effort to implement sound scientific principles to better manage healthy populations of resident wildlife species. We would also control domestic, feral, or pest animals, especially feral hogs, removing an average of 100-plus hogs annually, or as needed.

We would provide suitable habitats for native wildlife populations representative of the middle Chattahoochee River Valley, including waterfowl, other migratory birds, and threatened and endangered species.

We would gradually reduce cooperative farmer cropland acreage to 300 acres (from 500 acres at present) over the 15-year life of the CCP. Additionally, we would cultivate crops on 100 to 300 acres to provide food, cover, and sanctuary areas for wildlife and other species. This would provide adequate habitat for wintering waterfowl and provide quality dove hunting opportunities.

We would employ silvicultural treatments to improve 2,800 acres of forestland to benefit forest-dependent wildlife. We would also use fire as a management tool on approximately 800-1,000 acres annually in suitable habitats for species and habitat conservation. Management of moist-soil wetlands (approximately 1,200 acres) would be intensified, with emphasis on waterfowl and other aquatic birds' foraging and life-history requirements.

We would aggressively control aquatic invasive plant species on approximately 25 miles of shoreline, or as needed, and 1,250 acres annually. We would also conduct preventive and maintenance control of upland invasive plant species.

We would provide the public with quality wildlife-dependent recreation and environmental education and interpretation that lead to greater understanding and enjoyment of fish and wildlife and their habitats. We would work to expand overall public use opportunities.

In addition to maintaining all existing hunts and seasons, we would consider adding a youth wild turkey quota hunt by 2015. Boat launch facilities and bank fishing opportunities would be expanded by 2015. Also by 2015, we would document the impact of sport fishing and fishing tournaments on sensitive wildlife and habitat resources to serve as a basis for discussions with the Army Corps of Engineers and Alabama and Georgia authorities on the possibility of establishing no-wake zones in sensitive areas.

All existing wildlife observation and photography facilities would be maintained and within 10 years of CCP approval we would: (1) Designate a one-way loop in the Houston Bottoms and add additional pull-offs to the existing wildlife drive; (2) improve existing interpretive trail and add foot trails between Lakepoint State Park and the refuge; (3) add one photo blind in the Houston impoundment or goose pen impoundment; and (4) construct an observation platform adjacent to the hour glass impoundment on the wildlife drive and assess the need for an additional viewing platform in the area of Houston Bottoms.

In terms of environmental education and interpretation, we would maintain existing opportunities and facilities, and by 2022, we would establish a new visitor center.

We would provide for sufficient staffing, facilities, and infrastructure to fulfill the refuge's purpose and the goals and objectives of the CCP. We would enlarge the current staff by adding five full-time positions: biological science technician, maintenance worker, two park rangers (non-law enforcement), and law enforcement officer.

Within 15 years of CCP approval, we would develop and begin to implement a cultural resources management plan. In the meantime, there would continue to be limited management of cultural resources based on known locations of historical and archaeological resources. We would follow standard procedures to protect cultural resources whenever projects involving excavation were undertaken.

We would increase cooperation with the Army Corps of Engineers and the States of Alabama and Georgia on invasives' management, and with both States on overall refuge management, including restoration of longleaf pine forests. We would work to establish a refuge Friends group (support group) by 2022.

By 2022, or within 15 years of CCP approval, we would construct and begin to operate a visitor center east of U.S. Highway 431 adjacent to the Kennedy Unit. This center would serve as a focal point of public use opportunities on the refuge.

Public Availability of Comments

Before including your address, phone number, e-mail address, or other personal identifying information in your comment, you should be aware that your entire comment, including your personal identifying information, may be made publicly available at any time. While you can ask us in your comment to withhold your personal identifying information from public review, we cannot guarantee that we will be able to do so.

Next Step

After the comment period ends for the Draft CCP/EA, we will analyze the comments and address them in the form of a Final CCP and Finding of No Significant Impact.

Authority: This notice is published under the authority of the National Wildlife Refuge System Improvement Act of 1997, Public Law 105-57.

Dated: December 31, 2007.
Jon Andrew,
Acting Regional Director.

Editorial Note: This document was received in the Office of the Federal Register on June 3, 2008.

[FR Doc. E8-12713 Filed 6-5-08; 8:45 am]

BILLING CODE 4310-55-P